DEPARTMENT OF HEALTH AND HUMAN SERVICES

Centers for Disease Control and Prevention

[30Day-15-14ADD]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

National Occupational Research Agenda (NORA) 2016 Decade Review—New—National Institute for Occupational Safety and Health (NIOSH), Centers for Disease Control and Prevention (CDC).

Background and Brief Description

The National Institute for Occupational Safety and Health (NIOSH) is responsible for conducting research and making recommendations to prevent worker injury and illness, as authorized in Section 20(a)(1) of the Occupational Safety and Health Act (29 U.S.C. 669). In 1995-6, NIOSH saw an opportunity to enhance its ability to accomplish its mission through partnerships that involved a broad national stakeholder base in occupational safety and health. With stakeholder input, NIOSH developed and launched a decade-long partnership program titled the National Occupational Research Agenda (NORA) in 1996. Participation in NORA includes stakeholders from universities, large and small businesses, professional societies, government agencies, and worker organizations. After an internal management review of the first decade of NORA, conducted in 2005, NIOSH launched the second decade of NORA (2006-2016) structured for even greater national impact. This information collection is a necessary part of a larger internal NIOSH management review of the second decade of NORA. The results of this review will inform NIOSH decisions about how to structure a third decade of NORA (2016-2026) for maximum effectiveness and impact.

The second decade of NORA was based on a new sector structure to better move research to practice within workplaces. The work of the sectors is managed through a partnership structure of sector councils. Each council develops and maintains an agenda for the decade for its sector. The sector agendas become part of the national agenda for improvements in occupational safety and health through research and partnerships. Representing all stakeholders, the councils use an open process to set goals, develop strategies, encourage partnerships, and promote improved workplace practices.

NIOSH is requesting a 12-month OMB approval to administer a survey to NORA council members and leaders. The collection of information is necessary for NIOSH management to assess the efficiency and effectiveness of the NORA sector councils. The target population is all current and former members and leaders of each of the ten NORA Sector Councils. The web-based questionnaire requests information on satisfaction with the efficiency of the council and its processes, on impacts made in the sector during the second decade, and suggestions for improving the effectiveness and impact of NORA in the future. Without this data collection, NIOSH's internal management review of NORA would lack critical stakeholder input from its many non-Federal partners.

A 16-item questionnaire has been developed and will be sent to all 352 non-Federal NORA Sector council members or leaders. A pilot test of the questionnaire was conducted by asking eight NIOSH employees who are a leader of a NORA sector council to complete the questionnaire and provide feedback. Respondents to the pilot test estimated the questionnaire requires approximately 15 minutes to complete. The total estimated burden is 88 hours. There is no cost to respondents other than their time.

Estimated Annualized Burden Hours
Type of respondents | Form name | Number of respondents | Number of responses per respondent | Average burden per response (in hrs.)
Council member or leader | Council Questionnaire | 352 | 1 | 15/60

Leroy A. Richardson,
Chief, Information Collection Review Office, Office of Scientific Integrity, Office of the Associate Director for Science, Office of the Director, Centers for Disease Control and Prevention.

[FR Doc. 2014-26132 Filed 11-3-14; 8:45 am]

BILLING CODE 4163-18-P